NUCLEAR REGULATORY COMMISSION

Sunshine Meeting Notice

AGENCY: Nuclear Regulatory Commission.

DATES: Weeks of September 15, 22, 29, October 6, 13, 20, 2003.

PLACE: Commissioners' Conference Room, 11555 Rockville Pike, Rockville, Maryland.

Matters to be considered:

Week of September 15, 2003

There are no meetings scheduled for the Week of September 15, 2003.

Week of September 22, 2003—Tentative

Wednesday, September 24, 2003

9 a.m.—Briefing on Emergency Preparedness Program Status (Public Meeting) (Contact: Eric Weiss, 301-415-3264)

This meeting will be webcast live at the Web address— http://www.nrc.gov

Thursday, September 25, 2003

9 a.m.—Meeting with Nuclear Reactor Industry on Security Force Work Hour Limitations (Public Meeting) (Contact: Chris Nolan, 301-415-8171)

This meeting will be webcast live at the Web address— http://www.nrc.gov

9:30 a.m.—Discussion of Security Issues (Closed—Ex. 1)

Week of September 29, 2003—Tentative

Thursday, October 2, 2003

9:30 a.m.—Meeting with Advisory Committee on Reactor Safeguards (ACRS) (Public Meeting) (Contact: John Larkins, 301-415-7360)

This meeting will be webcast live at the Web address— http://www.nrc.gov

Week of October 6, 2003—Tentative

Tuesday, October 7, 2003

9:30 a.m.—Briefing on Decommissioning Activities and Status (Public Meeting) (Contact: Claudia Craig, 301-415-7276)

This meeting will be webcast live at the Web address— http://www.nrc.gov

1:30 p.m.—Briefing on Strategic Workforce Planning and Human Capital Initiatives (Closed—Ex. 2)

Week of October 13, 2003—Tentative

Wednesday, October 15, 2003

1:30 p.m.—Briefing on License Renewal Program, Power Uprate Activities, and High Priority Activities (Public Meeting) (Contact: Jimi Yerokun, 301-415-2292)

This meeting will be webcast live at the Web address— http://www.nrc.gov

Week of October 20, 2003—Tentative

Thursday, October 23, 2003

10 a.m.—Meeting with Advisory Committee on Nuclear Waste (ACNW) (Public Meeting) (Contact: John Larkins, 301-415-7360)

This meeting will be webcast live at the Web address— http://www.nrc.gov

*The schedule for Commission meetings is subject to change on short notice. To verify the status of meetings call (recording)—(301) 415-1292. Contact person for more information: David Louis Gamberoni (301) 415-1651.

SUPPLEMENTARY INFORMATION: By a vote of 3-0 on September 8, the Commission determined pursuant to U.S.C. 552b(e) and § 9.107(a) of the Commission's rules that “Affirmation of 1) Pacific Gas & Electric Co. (Diablo Canyon Power Plant, Units 1 and 2); Application for Stay of License Transfer Order and 2) Duke Energy Corporation (McGuire Nuclear Station, Units 1 & 2, Catawba Nuclear Station, Units 1 & 2” be held on September 8, and on less than one week's notice to the public.

The NRC Commission Meeting Schedule can be found on the Internet at: http://www.nrc.gov/what-we-do/policy-making/schedule.html

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: September 11, 2003.
D.L. Gamberoni,
Technical Coordinator, Office of the Secretary.

[FR Doc. 03-23837 Filed 9-15-03; 10:44 am]

BILLING CODE 7590-01-M